DEPARTMENT OF HEALTH AND HUMAN SERVICES

Office of the National Coordinator for Health Information Technology, American Health Information Community Chronic Care Workgroup Meeting

ACTION: Announcement of meeting.

SUMMARY: This notice announces the 12th meeting of the American Health Information Community Chronic Care Workgroup in accordance with the Federal Advisory Committee Act (Pub. L. No. 92-463, 5 U.S.C., App.).

DATES: January 18, 2007, from 1 p.m. to 5 p.m.

ADDRESSES: Mary C. Switzer Building (330 C Street, SW., Washington, DC 20201), Conference Room 4090. (Please bring photo ID for entry to a Federal building.)

FOR FURTHER INFORMATION CONTACT: http://www.hhs.gov/healthit/ahic/cc_main.html.

SUPPLEMENTARY INFORMATION: The Workgroup will continue discussing secure messaging.

The meeting will be available via internet access. For additional information, go to http://www.hhs.gov/healthit/ahic/cc_instruct.html.

Dated: December 14, 2006.
Judith Sparrow,
Director, American Health Information Community, Office of Programs and Coordination, Office of the National Coordinator for Health Information Technology.

[FR Doc. 06-9806 Filed 12-20-06; 8:45 am]

BILLING CODE 4150-24-M